POSTAL RATE COMMISSION

Facility Tours

AGENCY: Postal Rate Commission.

ACTION: Notice of Commission tour; correction.

SUMMARY: The dates identified for a Commission tour (previously noticed at 71 FR 10727) were in error. Instead of March 5-7, 2006, the tour will occur March 6-8, 2006.

DATES: March 6, 7 and 8, 2006.

FOR FURTHER INFORMATION CONTACT: Stephen L. Sharfman, General Counsel, 202-789-6820.

Steven W. Williams,
Secretary.

[FR Doc. 06-2137 Filed 3-6-06; 8:45 am]

BILLING CODE 7710-FW-M